DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Regulations to Implement SAMHSA's Charitable Choice Statutory Provisions—42 CFR parts 54 and 54a (OMB No. 0930-0242, Revision)—Section 1955 of the Public Health Service Act (42 U.S.C. 300x-65), as amended by the Children's Health Act of 2000 (Pub. L. 106-310) and Sections 581-584 of the Public Health Service Act (42 U.S.C. 290kk et seq., as added by the Consolidated Appropriations Act (Pub. L. 106-554)), set forth various provisions which aim to ensure that religious organizations are able to compete on an equal footing for Federal funds to provide substance abuse services. These provisions allow religious organizations to offer substance abuse services to individuals without impairing the religious character of the organizations or the religious freedom of the individuals who receive the services. The provisions apply to the Substance Abuse Prevention and Treatment Block Grant (SAPT BG), to the Projects for Assistance in Transition from Homelessness (PATH) formula grant program, and to certain Substance Abuse and Mental Health Services Administration (SAMHSA) discretionary grant programs (programs that pay for substance abuse treatment and prevention services, not for certain infrastructure and technical assistance activities). Every effort has been made to assure that the reporting, recordkeeping and disclosure requirements of the proposed regulations allow maximum flexibility in implementation and impose minimum burden.

No changes are being made to the regulations. This revision is for approval of the annual checklists to be completed by discretionary and PATH grantees to provide the information required to be reported by 42 CFR part 54a.8(d) and 54.8(e), respectively, and to ascertain how they are implementing the disclosure requirements of 54a.8(b) and 54.8(b), respectively. Information on how States comply with the requirements of 42 CFR part 54a was approved by the Office of Management and Budget (OMB) as part of the Substance Abuse Prevention and Treatment Block Grant FY 2005-2007 annual application and reporting requirements approved under OMB control number 0930-0080.

Annual Burden Estimates
42 CFR Citation and purpose | No. of respondents | Responses per respondent | Hours per response | Total hours
Part 54—States Receiving SAPT Block Grants and/or Projects for Assistance in Transition from Homelessness Grants
Reporting
54.8(c)(4) Program participant notification to responsible unit of government regarding referrals to alternative service providers | 40 | 4 | 0.33 | 53
54.8 (e) Annual report by PATH grantees on activities undertaken to comply with 42 CFR Part 54 | 56 | 1 | 2.00 | 112
Disclosure
54.8(b) Program participant notice to program beneficiaries of rights to referral to an alternative service provider:
SAPT BG | 1,000 | 275 | .05 | 13,750
PATH | 100 | 170 | .05 | 850
Recordkeeping
54.6(b) Documentation must be maintained to demonstrate significant burden for program participants under 42 U.S.C. 300x-57 or 42 U.S.C. 290cc-33(a)(2) | 50 | 1 | 1.00 | 50
Part 54—Subtotal | 1,156 |  |  | 14,815
Part 54a—States, local governments and religious organizations receiving funding under Title V of the PHS Act for substance abuse prevention and treatment services
Reporting
54a.8(c)(1)(iv) Program participant notification to State or local government of a referral to an alternative provider | 25 | 4 | .083 | 8
54a(8)(d) Program participant notification to SAMHSA of referrals | 20 | 2 | .25 | 10
Disclosure
54a.8(b) Program participant notice to program beneficiaries of rights to referral to an alternative service provider | 100 | 275 | .05 | 375
Part 54a—Subtotal | 100 |  |  | 1.393
Total | 1,256 |  |  | 16,208

Send comments to Summer King, SAMHSA Reports Clearance Officer, OAS, Room 7-1044, 1 Choke Cherry Road, Rockville, MD 20857. Written comments should be received by November 8, 2004.

Dated: September 2, 2004.
Anna Marsh,
Executive Officer, SAMHSA.

[FR Doc. 04-20410 Filed 9-8-04; 8:45 am]

BILLING CODE 4162-20-P